DEPARTMENT OF HOMELAND SECURITY

Transportation Security Administration

Intent To Request Approval From OMB of One New Public Collection of Information: Certification of Identity Form (TSA Form 415)

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves an individual traveler providing his or her name and address and information about verifying identity documents that have been issued to the traveler but are not present with him or her at an airport security screening checkpoint.

DATES: Send your comments by January 9, 2017.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

TSA requires individuals to provide an acceptable verifying identity document in order to proceed through security screening, enter the sterile area of the airport, or board a commercial aircraft. Under 49 CFR 1560.3, acceptable verifying identity documents include federally-issued documents, such as U.S. passports and U.S. passport cards, passports issued by foreign governments, and state-issued driver's licenses and identification cards. The complete list of acceptable verifying identity documents is available at www.tsa.gov/sites/default/files/resources/realid_factsheet_071516-508.pdf.

Secure driver's licenses and identification documents are a vital component of the Department of Homeland Security's (DHS's) national security strategy. In particular, preventing terrorists from obtaining state-issued identification documents is critical to securing the United States against terrorism. The 9/11 Commission noted “[f]or terrorists, travel documents are as important as weapons” and recommended that the Federal Government work with other levels of government to solidify the security of government-issued identification documents.¹

¹ Thomas H. Kean, Lee H. Hamilton, and the National Commission on Terrorist Attacks, “The 9/11 Commission report: Final Report of the National Commission on Terrorist Attacks Upon the United States (9/11 Report)” (Washington, DC, U.S. Government Printing Office, Official Government Edition, July 22, 2004), p. 384. Available at https://www.gpo.gov/fdsys/pkg/GPO-911REPORT/content-detail.html.

The REAL ID Act of 2005 (REAL ID Act) ² was enacted to further the goal of securing state-issued identification documents to address terrorism, identity fraud, and illegal immigration. Section 202 of the REAL ID Act prohibits Federal agencies from accepting state-issued ³ driver's licenses or identification cards for specified official purposes, unless such documents are determined by the Secretary of Homeland Security to meet minimum security requirements, including the incorporation of specified data, a common machine-readable technology, and certain anti-fraud security features. The “official purposes” defined in the REAL ID Act include “boarding federally regulated commercial aircraft.”

² “Emergency Supplemental Appropriations Act for Defense, the Global War on Terror, and Tsunami Relief, 2005,” Public Law 109-13, Div. B—REAL ID Act of 2005, 119 Stat. 231, 302-23 (May 11, 2005).

³ The REAL ID Act defines the term “State” to mean “a State of the United States, the District of Columbia, Puerto Rico, the Virgin Islands, Guam, American Samoa, the Northern Mariana Islands, the Trust Territory of the Pacific Islands, and any other territory or possession of the United States.”

To implement the REAL ID Act, TSA may accept state-issued verifying identity documents only if they have been issued by a state that is in compliance with the minimum security requirements and standards set forth in the Act, or if the state has received an extension from DHS. In accordance with DHS policy, TSA will begin implementing the REAL ID Act at airport security screening checkpoints on January 22, 2018. Starting on that day, TSA will not accept state-issued driver's licenses and other state-issued identification cards from states that are not compliant with REAL ID Act requirements unless DHS has granted the state a temporary extension to achieve compliance.

Concurrently with implementation of the REAL ID Act, TSA is updating the identity verification process for travelers who arrive at an airport security checkpoint without an acceptable verifying identity document. This process involves a traveler providing his or her name and address and answering questions to confirm his or her identity. If the traveler's identity is confirmed, he or she will be allowed to enter the screening checkpoint. Travelers using this process for identity verification may be subject to additional security screening. A traveler will not be permitted to fly if his or her identity cannot be confirmed. A traveler also will not be permitted to fly if he or she declines to cooperate with the identity verification process.

To initiate the identity verification process, a traveler without an acceptable verifying identity document must complete a Certification of Identity (COI) form (TSA Form 415). The current TSA Form 415 requests the traveler's name and address. After completing the form, the traveler is connected with TSA's Identity Verification Call Center (IVCC). The IVCC searches various commercial and government databases using the name and address on the TSA Form 415 as key search criteria to find other identifying information about the traveler. The IVCC then asks the traveler a series of questions based on information found in the databases to verify the individual's identity.

To ensure that the identity verification process described above does not become a means for travelers to circumvent implementation of the REAL ID Act, TSA is updating the process so that it is generally only available to travelers who certify that they—

• Reside in or have been issued a driver's license or state identification card by a state that is compliant with the REAL ID Act or a state that has been granted an extension by DHS; or

• Have been issued another verifying identity document that TSA accepts.

To enable travelers to make this certification, TSA is revising Form 415. The revised TSA Form 415 requests a traveler's name and address and asks for the following additional information:

(1) Whether the traveler has been issued a driver's license or state identification card.

(2) If yes, the state that issued the document.

(3) Whether the traveler has been issued an acceptable verifying identity document other than a state-issued driver's license or identification card.

Use of Results

TSA will use the information provided on revised TSA Form 415 to generate questions intended to verify the identity of a traveler who arrives at a security-screening checkpoint without an acceptable verifying identity document. A failure to collect this information would result in TSA being unable to verify the identity of travelers without an acceptable verifying identity document and these travelers being unable to proceed through the security checkpoint and board a commercial aircraft.

The most likely respondents to this proposed information request are travelers who arrive at an airport security checkpoint without an acceptable verifying identity document because they lost or forgot their driver's license or other state-issued identification card. Other likely respondents are travelers who had their verifying identity document stolen and travelers carrying a form of identification that they incorrectly believed to be acceptable. TSA estimates that approximately 191,214 passengers will complete the TSA Form 415 annually. TSA estimates each form will take approximately three minutes to complete. This collection would result in an annual reporting burden of 9,561 hours.

Dated: November 3, 2016.
Christina A. Walsh,
TSA Paperwork Reduction Act Officer, Office of Information Technology.

[FR Doc. 2016-26958 Filed 11-7-16; 8:45 am]

BILLING CODE 9110-05-P